SMALL BUSINESS ADMINISTRATION

[Disaster Declaration #14474 and #14475]

California Disaster Number CA-00238

AGENCY: U.S. Small Business Administration.

ACTION: Amendment 2.

SUMMARY: This is an amendment of the Presidential declaration of a major disaster for the State of California (FEMA-4240-DR), dated 09/22/2015.

Incident: Valley Fire and Butte Fire.

Incident Period: 09/09/2015 and continuing.

Effective Date: 09/23/2015.

Physical Loan Application Deadline Date: 11/23/2015.

EIDL Loan Application Deadline Date: 06/22/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of California, dated 09/22/2015 is hereby amended to include the following areas as adversely affected by the disaster:

Primary Counties: (Physical Damage and Economic Injury Loans): Calaveras

Contiguous Counties: (Economic Injury Loans Only):

California: Alpine, Amador, San Joaquin, Stanislaus, Tuolumne

All other information in the original declaration remains unchanged.

(Catalog of Federal Domestic Assistance Numbers 59002 and 59008)

James E. Rivera,
Associate Administrator for Disaster Assistance.

[FR Doc. 2015-24993 Filed 9-30-15; 8:45 am]

BILLING CODE 8025-01-P